DEPARTMENT OF THE INTERIOR

Bureau of Land Management

[BLM_AK_FRN_MO4500180029]

Boundary Establishment for Birch Creek National Wild and Scenic River, Bureau of Land Management, Alaska State Office, Yukon-Koyukuk Borough, Alaska

AGENCY: Bureau of Land Management, Interior.

ACTION: Notice of availability.

SUMMARY: In accordance with the Wild and Scenic Rivers Act, the Bureau of Land Management (BLM), Alaska State Office, is transmitting the final boundary of Birch Creek National Wild and Scenic River to Congress.

ADDRESSES: The Birch Creek Wild and Scenic River Boundary description is available for review at https://www.blm.gov/sites/default/files/docs/2024-06/BLM-AK-Birch-Creek-WSR_Corridor-Lands-description.pdf; or in person by contacting one of the following offices: the Bureau of Land Management National Office, (DOI Library), 1849 C St. NW, Washington, DC 20240, (202) 208-5815; or the Bureau of Land Management Alaska State Office, 222 West 7th Ave. Stop 13, Anchorage, AK 99513, 907-271-3386. To review in person, arrangements should be made in advance by contacting the appropriate office prior to arrival.

FOR FURTHER INFORMATION CONTACT: Zach Million, BLM Alaska Program Lead for Recreation, Travel Management and National Conservation Lands, by phone, 907-271-3386; or by email, zmillion@blm.gov. Individuals in the United States who are deaf, deafblind, hard of hearing, or have a speech disability may dial 711 (TTY, TDD, or TeleBraille) to access telecommunications relay services for contacting Vivian Browning. Individuals outside the United States should use the relay services offered within their country to make international calls to the point-of-contact in the United States.

SUPPLEMENTARY INFORMATION: In accordance with section 3(b) of the Wild and Scenic Rivers Act, the BLM Alaska State Office is transmitting the final boundary of the Birch Creek National Wild and Scenic River to Congress. The Birch Creek Wild and Scenic River boundary description is available for review on the website or in person as indicated in the ADDRESSES section.

The Alaska National Interest Lands Conservation Act of December 2, 1980 (Pub. L. 96-487), designated Birch Creek in Alaska as a National Wild and Scenic River to be administered by the Secretary of the Interior. The initial comprehensive river management plan (CRMP) was completed in 1983. A revision to the CRMP was needed to be in conformance with BLM's 2009 National Landscape Conservation System, 2016 Steese Record of Decision and Approved Resource Management Plan, and the 2022 Steese Travel and Transportation Management Plan Decision Record.

As specified by law, the boundary will not be effective until 90 days after Congress receives the transmittal.

(Authority: 16 U.S.C. 1271; 16 U.S.C. 1274(b))

Steven M. Cohn,
State Director, Alaska.

[FR Doc. 2024-22417 Filed 9-30-24; 8:45 am]

BILLING CODE 4331-10-P